DEPARTMENT OF ENERGY

Federal Energy Regulatory Commission

Combined Notice of Filings #1

Take notice that the Commission received the following exempt wholesale generator filings:

Docket Numbers: EG21-188-000.

Applicants: Lancaster Solar LLC.

Description: Notice of Self-Certification of Exempt Wholesale Generator Status of Lancaster Solar LLC.

Filed Date: 7/1/21.

Accession Number: 20210701-5077.

Comments Due: 5 p.m. ET 7/22/21.

Docket Numbers: EG21-189-000.

Applicants: SR Georgia Portfolio II Lessee, LLC.

Description: Notice of Self-Certification of Exempt Wholesale Generator Status of SR Georgia Portfolio II Lessee, LLC.

Filed Date: 7/1/21.

Accession Number: 20210701-5089.

Comments Due: 5 p.m. ET 7/22/21.

Docket Numbers: EG21-190-000.

Applicants: SR Lumpkin, LLC.

Description: Notice of Self-Certification of Exempt Wholesale Generator Status of SR Lumpkin, LLC.

Filed Date: 7/1/21.

Accession Number: 20210701-5090.

Comments Due: 5 p.m. ET 7/22/21.

Docket Numbers: EG21-191-000.

Applicants: SR Snipesville II, LLC.

Description: Notice of Self-Certification of Exempt Wholesale Generator Status of SR Snipesville II, LLC.

Filed Date: 7/1/21.

Accession Number: 20210701-5091.

Comments Due: 5 p.m. ET 7/22/21.

Take notice that the Commission received the following electric rate filings:

Docket Numbers: ER10-2839-008.

Applicants: Midland Cogeneration Venture Limited Partnership.

Description: Triennial Market Power Analysis for Central Region of Midland Cogeneration Venture Limited Partnership.

Filed Date: 6/30/21.

Accession Number: 20210630-5306.

Comments Due: 5 p.m. ET 8/30/21.

Docket Numbers: ER15-190-016; ER10-2034-007; ER18-1343-011.

Applicants: Duke Energy Renewable Services, LLC, Duke Energy Indiana, LLC, Carolina Solar Power, LLC.

Description: Amendment to the December 18, 2020 Triennial Market Power Analysis for Central Region of Duke Companies.

Filed Date: 6/29/21.

Accession Number: 20210629-5272.

Comments Due: 5 p.m. ET 7/20/21.

Docket Numbers: ER19-13-000; ER19-1816-000; ER20-2265-000.

Applicants: Pacific Gas and Electric Company.

Description: Errata to December 1, 2020 Annual Formula Transmission Rate Update Filing for Rate Year 2021 of Pacific Gas and Electric Company.

Filed Date: 12/7/20.

Accession Number: 20201207-5231.

Comments Due: 5 p.m. ET 7/15/21.

Docket Numbers: ER19-13-000; ER19-1816-000; ER20-2265-000.

Applicants: Pacific Gas and Electric Company.

Description: Annual Formula Transmission Rate Update Filing for Rate Year 2021 of Pacific Gas and Electric Company.

Filed Date: 12/1/20.

Accession Number: 20201207-5231.

Comments Due: 5 p.m. ET 7/15/21.

Docket Numbers: ER20-1505-004.

Applicants: Basin Electric Power Cooperative, Inc.

Description: Triennial Market Power Analysis for Southwest Power Pool, Inc. Region of Basin Electric Power Cooperative.

Filed Date: 6/29/21.

Accession Number: 20210629-5271.

Comments Due: 5 p.m. ET 7/20/21.

Docket Numbers: ER20-2051-002.

Applicants: Niagara Mohawk Power Corporation, New York Independent System Operator, Inc.

Description: Compliance filing: Niagara Mohawk Order No. 864 Compliance Filing to be effective 1/27/2020.

Filed Date: 7/1/21.

Accession Number: 20210701-5155.

Comments Due: 5 p.m. ET 7/22/21.

Docket Numbers: ER21-1506-002.

Applicants: Shaw Creek Solar, LLC.

Description: Tariff Amendment: Shaw Creek Solar, LLC Second Amendment to the Application for MBR Authority to be effective 5/23/2021.

Filed Date: 7/1/21.

Accession Number: 20210701-5136.

Comments Due: 5 p.m. ET 7/22/21.

Docket Numbers: ER21-2320-000.

Applicants: Southwest Power Pool, Inc.

Description: § 205(d) Rate Filing: 3827 Gray County Wind Energy GIA to be effective 6/16/2021.

Filed Date: 7/1/21.

Accession Number: 20210701-5030.

Comments Due: 5 p.m. ET 7/22/21.

Docket Numbers: ER21-2321-000.

Applicants: Louisville Gas and Electric Company.

Description: § 205(d) Rate Filing: Contribution in Aid of Contraction Agreement with Kentucky Power Company to be effective 8/30/2021.

Filed Date: 7/1/21.

Accession Number: 20210701-5051.

Comments Due: 5 p.m. ET 7/22/21.

Docket Numbers: ER21-2322-000.

Applicants: Kentucky Utilities Company.

Description: § 205(d) Rate Filing: KU Concurrence-Kentucky Power Company_Rodburn CIAC to be effective 8/30/2021.

Filed Date: 7/1/21.

Accession Number: 20210701-5052.

Comments Due: 5 p.m. ET 7/22/21.

Docket Numbers: ER21-2323-000.

Applicants: Southwest Power Pool, Inc.

Description: § 205(d) Rate Filing: Membership Agreement Amendments for L and O Power Cooperative to be effective 6/28/2021.

Filed Date: 7/1/21.

Accession Number: 20210701-5059.

Comments Due: 5 p.m. ET 7/22/21.

Docket Numbers: ER21-2324-000.

Applicants: Southern California Edison Company.

Description: § 205(d) Rate Filing: DSA Hecate Energy Desert Storage 1 LLC SA No. 1149 to be effective 8/31/2021.

Filed Date: 7/1/21.

Accession Number: 20210701-5083.

Comments Due: 5 p.m. ET 7/22/21.

Docket Numbers: ER21-2326-000.

Applicants: New York Independent System Operator, Inc.

Description: § 205(d) Rate Filing: 205 Regulation Movement Multiplier (“RMM”) Factor Revision to be effective 8/31/2021.

Filed Date: 7/1/21.

Accession Number: 20210701-5088.

Comments Due: 5 p.m. ET 7/22/21.

Docket Numbers: ER21-2327-000.

Applicants: Vermont Transco LLC.

Description: Compliance filing: Compliance 2021 Exhibit A to be effective 7/1/2021.

Filed Date: 7/1/21.

Accession Number: 20210701-5113.

Comments Due: 5 p.m. ET 7/22/21.

Docket Numbers: ER21-2328-000.

Applicants: Public Service Company of Colorado.

Description: § 205(d) Rate Filing: 2021-07-01 PSCo-HQC-Info Study-2021-2-649 to be effective 7/1/2021.

Filed Date: 7/1/21.

Accession Number: 20210701-5131.

Comments Due: 5 p.m. ET 7/22/21.

Docket Numbers: ER21-2329-000.

Applicants: Minonk Stewardship Wind LLC.

Description: Baseline eTariff Filing: Reactive Power Compensation Filing to be effective 8/30/2021.

Filed Date: 7/1/21.

Accession Number: 20210701-5132.

Comments Due: 5 p.m. ET 7/22/21.

Docket Numbers: ER21-2329-000.

Applicants: Minonk Stewardship Wind LLC.

Description: Baseline eTariff Filing: Reactive Power Compensation Filing to be effective 8/30/2021.

Filed Date: 7/1/21.

Accession Number: 20210701-5133.

Comments Due: 5 p.m. ET 7/22/21.

Docket Numbers: ER21-2330-000.

Applicants: Clines Corners Wind Farm LLC.

Description: Baseline eTariff Filing: Clines Corners Wind Farm LLC MBR Tariff and Joint Application to be effective 7/1/2021.

Filed Date: 7/1/21.

Accession Number: 20210701-5134.

Comments Due: 5 p.m. ET 7/22/21.

Docket Numbers: ER21-2331-000.

Applicants: Duran Mesa LLC.

Description: Baseline eTariff Filing: Duran Mesa LLC MBR Tariff and Joint Application to be effective 7/1/2021.

Filed Date: 7/1/21.

Accession Number: 20210701-5148.

Comments Due: 5 p.m. ET 7/22/21.

Docket Numbers: ER21-2332-000.

Applicants: Alabama Power Company.

Description: § 205(d) Rate Filing: PowerSouth Second Amended and Restated NITSA Filing to be effective 9/1/2021.

Filed Date: 7/1/21.

Accession Number: 20210701-5151.

Comments Due: 5 p.m. ET 7/22/21.

Docket Numbers: ER21-2333-000.

Applicants: Red Cloud Wind LLC.

Description: Baseline eTariff Filing: Red Cloud Wind LLC MBR Tariff and Joint Application to be effective 7/1/2021.

Filed Date: 7/1/21.

Accession Number: 20210701-5164.

Comments Due: 5 p.m. ET 7/22/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2021.
Debbie-Anne A. Reese,
Deputy Secretary.

[FR Doc. 2021-14586 Filed 7-7-21; 8:45 am]

BILLING CODE 6717-01-P